DEPARTMENT OF AGRICULTURE

Forest Service

Flathead Resource Advisory Committee

AGENCY: Forest Service, USDA.

ACTION: Notice of meetings.

SUMMARY: The Flathead Resource Advisory Committee will meet in Kalispell, Montana on the dates listed below. The Committee is authorized under the Secure Rural Schools and Community Self-Determination Act of 2000, (the Act) (Pub. L. 112-141) and operates in compliance with the Federal Advisory Committee Act (FACA) (Pub. L. 92-463). The purpose of the Committee is to improve collaborative relationships and to provide advice and recommendations to the Forest Service concerning projects and funding consistent with the Title II of the Act. The meeting is open to the public. The purpose of the meeting is to hear project proposal presentations for 2014.

DATES: The meetings will be held every Tuesday between August 27, 2013, and September 24, 2013, from 4:00 p.m. to 6:30 p.m. (MST). Exact meeting dates are as follow:

1. August 27, 2013—4:00 p.m. to 6:30 p.m.

2. September 3, 2013—4:00 p.m. to 6:30 p.m.

3. September 10, 2013—4:00 p.m. to 6:30 p.m.

4. September 17, 2013—4:00 p.m. to 6:30 p.m.

5. September 24, 2013—4:00 p.m. to 6:30 p.m.

All Resource Advisory Committee meetings are subject to change or cancellation. For status of the Flathead Resource Advisory Committee meetings prior to attending each meeting, contact: Wade Muehlhof, Public Affairs Specialist, Flathead National Forest, 406-758-5252, ewmuehlhof@fs.fed.us.

ADDRESSES: The meetings will be held at the Flathead National Forest Office, 650 Wolfpack Way, Kalispell, Montana 59901. Written comments may be submitted as described under Supplementary Information listed below. All comments, including names and addresses when provided are placed in the record and are available for public inspection and copying. The public may inspect comments received at the Flathead National Forest Office, 650 Wolfpack Way, Kalispell, Montana 59901. Please call ahead to 406-758-5252 to facilitate entry into the building in order to view comments.

FOR FURTHER INFORMATION CONTACT: Wade Muehlhof, Public Affairs Specialist, Flathead National Forest, 406-758-5252, ewmuehlof@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: presentation of project proposals and approval of projects. Additional information on the Flathead Resource Advisory Committee can be found by visiting the Flathead National Forest Web site at: www.fs.fed.us/r1/gwj. Anyone who would like to bring related matters to the attention of the Committee may file written statements with the Committee staff before or after the meeting. The agenda will include time for people to make oral statements of three minutes or less. Individuals wishing to make an oral statement should request in writing by August 1, 2013, to be scheduled on the agenda. Written comments and requests for time for oral comments must be sent to Wade Muehlhof, Public Affairs Specialist, Flathead National Forest, 650 Wolfpack Way, Kalispell, Montana 59901; Email: ewmuehlhof@fs.fed.us; or Facsimile: 406-758-5351.

A summary of the meeting will be posted at https://fsplaces.fs.fed.us/fsfiles/unit/wo/secure_rural_schools.nsf within 21 days of the meeting.

If you are a person requiring resonable accomodation, please make requests in advance for sign language interpreting, assistive listening devices or other reasonable accomodation for access to the facility or procedings by contacting the person listed under FOR FURTHER INFORMATION CONTACT. All reasonable accommodation requests are managed on a case by case basis.

Dated: July 17, 2013.
Chip Weber,
Forest Supervisor.

[FR Doc. 2013-18111 Filed 7-26-13; 8:45 am]

BILLING CODE 3410-11-P